DEPARTMENT OF THE INTERIOR

Bureau of Reclamation

Northwest Area Water Supply Project, ND

AGENCY: Bureau of Reclamation, Interior.

ACTION: Notice of Availability of Draft Environmental Impact Statement (EIS) and Announcement of Public Hearings.

SUMMARY: The Bureau of Reclamation published a notice in the Federal Register on March 6, 2006 (71 FR 11226) announcing the commencement of work under the National Environmental Policy Act on an environmental impact statement for the Northwest Area Water Supply Project (NAWS Project). We are now notifying the public that Reclamation has prepared a Draft EIS which is now available for review and comment. The Draft EIS provides information and analyses related to water treatment for the NAWS Project that would further minimize the transfer of potentially invasive species from the Missouri River basin into the Hudson Bay basin from potential treatment or conveyance failures. The Draft EIS analyzes the potential environmental, cultural, and socioeconomic effects of four alternatives.

DATES: A 60-day public review period begins with the publication of this notice. Written comments on the Draft EIS are due by February 26, 2008, and should be submitted to Reclamation at the address given below.

Public hearings will be held during February 2008 in North Dakota. See the Supplementary Information section for dates of the public hearings.

ADDRESSES: Send comments on the Draft EIS to: Northwest Area Water Supply Project EIS, Bureau of Reclamation, Dakotas Area Office, P.O. Box 1017, Bismarck, ND 58502. See SUPPLEMENTARY INFORMATION section for meeting addresses.

FOR FURTHER INFORMATION CONTACT: Alicia Waters, Northwest Area Water Supply Project EIS, Bureau of Reclamation, Dakotas Area Office, P.O. Box 1017, Bismarck ND 58502; Telephone: (701) 221-1206; or FAX (701) 250-4326. You may submit e-mail to awaters@gp.usbr.gov.

SUPPLEMENTARY INFORMATION:

Public Hearing Dates:

• Monday, February 4, 2008, 7 p.m., Bismarck, North Dakota

• Tuesday, February 5, 2008, 7 p.m., Minot, North Dakota

• Thursday, February 7, 2008, 7 p.m., New Town, North Dakota

Public Hearing Locations:

• Bismarck—Best Western Ramkota, 800 South 3rd Street, Bismarck, ND 58504

• Minot—Sleep Inn & Suites, 2400 10th Street SW., Minot, ND 58701

• New Town—Four Bears Casino and Lodge, 202 Frontage Rd, Newtown, ND 58763

Public Review Locations:

Copies of the Draft EIS are available for public review at the following locations:

• Bismarck Public Library, 515 North 5th Street, Bismarck, ND

• Minot Public Library, 516 2nd Avenue SW., Minot, ND

• Dakotas Area Office, Bureau of Reclamation, 304 East Broadway, Bismarck, ND

• Bureau of Indian Affairs, Fort Berthold Agency, 202 Main Street, New Town, ND

• North Dakota State Library, 603 East Boulevard Avenue, Bismarck, ND

• Standing Rock Administrative Service Center, Building #1, North Standing Rock Avenue, Fort Yates, ND

• Mohall Public Library, 112 Main Street East, Mohall, ND

• Bottineau City Hall, 115 West 6th Street, Bottineau, ND

• Millennium Library, 251 Donald Street, Winnipeg, Manitoba, Canada

Background

The Garrison Diversion Unit's Municipal, Rural and Industrial Water Supply (MR&I) program was authorized by the U.S. Congress on May 12, 1986, through the Garrison Diversion Unit Reformulation Act of 1986. This act authorized the appropriation of $200 million of Federal funds for the planning and construction of water supply facilities throughout North Dakota. The NAWS project, initiated in November 1987, is being developed as a result of this authorization.

The NAWS project is designed as a bulk water distribution system that will service local communities and rural water systems in 10 counties in northwestern North Dakota including the community of Minot. The NAWS project is an interbasin transfer of water from Lake Sakakawea, in the Missouri River basin in North Dakota to Minot, North Dakota, in the Hudson Bay basin. Reclamation completed an Environmental Assessment (EA) and Finding of No Significant Impact (FONSI) for the project in 2001. Construction on the project began in April 2002. In October 2002, the Province of Manitoba filed a legal challenge in U.S. District Court in Washington, DC to compel the Department of the Interior to complete an EIS on the project. A Court Order dated February 3, 2005, remanded the case to Reclamation for completion of additional environmental analysis.

During the pendancy of the litigation filed by Manitoba, construction continued on the project. Construction of the 45 miles of raw water core pipeline began in April 2002 and is substantially complete. The Court has also granted permission for the design and construction of other project features for the distribution system. These project features include a high service pump station and distribution pipeline in Minot, North Dakota and a distribution pipeline to the community of Berthold, North Dakota.

Proposed Action

Reclamation proposes to construct a biota water treatment plant for the NAWS project that would reduce the risk of transferring potentially invasive species from the Missouri River basin to the Hudson Bay basin. As a part of this proposed action, Reclamation would implement construction methods and operational measures to further minimize the risk of invasive species transfer that may occur as a result of a failure in the treatment process or conveyance pipeline.

Purpose and Need for the Federal Action

The purpose of the proposed action is to adequately treat water from the Missouri River basin (Lake Sakakawea) using methods and measures that minimize the risk of transferring invasive species into the Hudson Bay basin. Previous environmental analyses have shown that the risk of the NAWS project transferring invasive species between these two drainage basins is very low. However, in response to the legal challenge by the Province of Manitoba, Canada, and the subsequent order from the U.S. District Court, Reclamation has conducted further environmental analyses of this issue.

Alternatives

Four water treatment alternatives are evaluated in the Draft EIS to meet the purpose and need for the proposed action. Each of the alternatives includes a combination of treatment features to form a process that reduces the potential risk of the NAWS project transferring invasive species from the Missouri River basin to the Hudson Bay basin. The alternatives considered in the EIS are generally listed in the order of their relative treatment inactivation/removal capability with the No Action Alternative providing the lowest level of treatment and microfiltration providing the highest level of treatment. The alternatives evaluated in the Draft EIS include:

• No Action. The preferred treatment alternative described in the Final EA would include chemical disinfection of raw Missouri River water prior to transfer into the Hudson Bay basin. This alternative includes additional safeguards of pipeline construction and operation to minimize the risk of transferring invasive species as a result of pipeline failure. Ultraviolet (UV) disinfection is provided along with softening and filtration at the existing Minot water treatment plant.

• Basic Treatment. This treatment alternative would include a pre-treatment (Coagulation, Flocculation, Sedimentation) process followed by chemical and UV disinfection prior to the water crossing the drainage divide. The purpose of the pre-treatment process is to reduce raw water turbidity which can influence the effectiveness of the disinfection processes.

• Conventional Treatment. This treatment process would include a pre-treatment of Dissolved Air Flotation (DAF) followed by media filtration and disinfection using UV and chemicals (chlorine and chloramines) within the Missouri River basin.

• Microfiltration. This treatment alternative would include pre-treatment (coagulation, pin floc) followed by membrane filtration and chemical and UV disinfection processes prior to the water crossing the drainage divide.

Public Disclosure Statement

Before including your name, address, phone number, e-mail address, or other personal identifying information in your comment, you should be aware that your entire comment—including your personal identifying information—may be made publicly available at any time. While you can ask us in your comment to withhold your personal identifying information from public review, we cannot guarantee that we will be able to do so.

Dated: December 10, 2007.
Michael J. Ryan,
Regional Director, Great Plains Region.

[FR Doc. E7-24575 Filed 12-20-07; 8:45 am]

BILLING CODE 4310-MN-P